DENALI COMMISSION

Fiscal Year 2012 Draft Work Plan; Correction

AGENCY: Denali Commission.

ACTION: Notice; second correction.

SUMMARY: The Denali Commission (Commission) published a document in the Federal Register of May 23, 2012, concerning request for comments on the Draft Work Plan for Federal Fiscal Year 2012. This revision to Fiscal Year 2012 Work Plan is to provide clarifying edits. In particular, Section 304(b)(3) of the Denali Commission Act, as amended (Title III of Pub. L. 105-277, 42 U.S.C. 3121) outlines the process for approval of the Work Plan by the Secretary of Commerce. The aforementioned edits are included as recommendations from the Department of Commerce to make the Work Plan subject to approval. This Federal Register notice serves to announce the 15-day opportunity for public comment on the Denali Commission Draft Work Plan for Federal Fiscal Year 2012. The Commission will hold a public hearing via teleconference on the FY 2012 Work Plan within 15 days after the publication date of this second correction. Please check www.denali.gov for details on this public hearing including the date, time, and teleconference number.

DATES: Comments and related material to be received by August 20, 2012.

ADDRESSES: Submit comments to the Denali Commission, Attention: Sabrina Hoppas, 510 L Street, Suite 410, Anchorage, AK 99501.

FOR FURTHER INFORMATION CONTACT: Ms. Sabrina Hoppas, Denali Commission, 510 L Street, Suite 410, Anchorage, AK 99501. Telephone: (907) 271-1414. Email: shoppas@denali.gov

SUPPLEMENTARY INFORMATION:

Correction

In the Federal Register of May 23, 2012, in FR Doc. 2012-12462, make the following corrections:

1. On page 30511, in the first column, removal of paragraph;

“The FY 2011 Work Plan outlines a strategy to balance the Energy Program in both legacy and renewable components, providing up to $2.4 million of available program funds specifically toward the emerging technology program pending state match. If match for this program is not provided, this funding shall be reallocated to legacy projects.”

2. On page 30511, in the third column, include in the heading “Transportation” caption to read:

“Section 309 of the Denali Commission Act 1998 (amended), created the Commission's Transportation Program, including the Transportation Advisory Committee (TAC).”

3. On page 30512, in the first column, line 39, correct to read: “totaling $24,700,000.”

4. On page 30510, in the Denali Commission FY 2012 Funding Table, correct to read:

Denali Commission FY 2012 funding table | Totals
FY 2011/2012 (combined) Federal Highway Administration (FHWA)—Estimate | $0-$24,700,000
For necessary, expenses for the Denali Access System Program as authorized under Section 1960 of Public Law 109-59

5. On Page 30510, after the Denali Commission FY 2012 Funding Table, include table to read:

Proposed energy projects | FY12 funding
Nunam Iqua Bulk Fuel Facility | $2,700,000
Perryville Bulk Fuel Facility | 1,172,000
Shishmaref Bulk Fuel Facility | 2,517,778
St. George Rural Power System Upgrade | 2,100,000
Alakanuk/Emmonak Power Plant Bulk Fuel Storage Facility | 2,700,000-4,355,284
Stebbins/St. Michael Intertie | 2,610,000
Holy Cross Bulk Fuel Facility Business Plan | 20,000
St. Mary's Bulk Fuel Facility or Rural Power System Upgrade Design | 250,000
Alaska Energy Authority Project Management | 269,138
Alaska Village Electric Cooperative Project Management | 334,800
Strategic Technical Assistance Response Team (START) Program | 300,000
Total FY12 Energy Program | 16,629,000

6. On page 30512, after the last paragraph, include to read:

Update on the Commission's Transportation Program

As stated in the May 23, 2012 Federal Register notice, the Commission's Transportation Advisory Committee met on June 6 and 7, 2012. The TAC rated and ranked 43 surface road projects and recommended 23 projects for funding. These 23 road projects, if funded, have an aggregate need of approximately $14 million. Coupled with the previously rated, ranked and recommended FY11 road projects (10 projects with an aggregate need of approximately $6 million), the Commission stands ready to obligate up to $20 million in FY12. However, the Commission is still awaiting a decision by the Government Accountability Office on whether the FY11 and FY12 Federal Highways Administration funding for the Denali Access Program (i.e. the Commission's Transportation Program) will be provided to the Commission. Therefore, there are no grant actions by the Commission, yet, on the agency's surface road program.

Joel Neimeyer,
Federal Co-Chair.

[FR Doc. 2012-19245 Filed 8-7-12; 8:45 am]

BILLING CODE 3300-01-P